DEPARTMENT OF TRANSPORTATION

Federal Aviation Administration

Notice of Availability, Notice of Public Comment Period, Notice of Virtual Public Meeting, and Request for Comment on the Draft Environmental Assessment for the SpaceX Falcon 9 Operations at Space Launch Complex 40 (SLC-40), Cape Canaveral Space Force Station, Florida

AGENCY: Federal Aviation Administration (FAA), Department of Transportation (DOT).

ACTION: Notice of availability, public comment period, and virtual public meeting.

SUMMARY: In accordance with the National Environmental Policy Act of 1969, as amended (NEPA) and FAA Order 1050.1F, Environmental Impacts: Policies and Procedures, the FAA is announcing the availability of and requesting comment on the Draft Environmental Assessment for SpaceX Falcon 9 Operations at Space Launch Complex 40, Cape Canaveral Space Force Station (Draft EA).

DATES: The FAA will hold a virtual public meeting on the Draft EA on April 16, 2025, from 6-8 p.m. (eastern). Interested parties must register to join the virtual public meeting. Registration is now available at the link in ADDRESSES. The public comment period for the Draft EA and DAF's Draft FONSI will close on April 24, 2025.

ADDRESSES: The Draft EA is available for public review at https://www.faa.gov/space/stakeholder_engagement/SpaceX_Falcon_SLC_40_EA.

The Unique ID for this document is EAXX-021-12-000-1737545438.

The United States Department of Air Force (DAF) is a Cooperating Agency for this Draft EA. In order to meet DAF's National Environmental Policy Act requirements for adopting the FAA's Environmental Assessment as a Cooperating Agency, (see 32 CFR 989.15(e)), the FAA has also posted a link to the Draft Finding of No Significant Impact (Draft FONSI) on behalf of the DAF for public comment. The DAF Draft FONSI can be viewed at: The DAF Draft FONSI can be viewed at: https://www.patrick.spaceforce.mil/Resources/Environmental-Information/.

The Draft EA and Draft FONSI have been posted and comments will be received through the Federal E-Rulemaking Portal: http://www.regulations.gov. Search for “FAA-2025-0114” to retrieve the docket and follow the instructions to submit a comment.

The FAA invites interested parties to submit comments on the Draft EA and USSF Draft FONSI. Public comments can be submitted electronically to www.regulations.gov under Docket No. FAA-2025-0114, by postal mail to Ms. Eva Long, FAA Environmental Protection Specialist, c/o ICF, 1902 Reston Metro Plaza Reston, VA 20190, or delivered in verbal form at the public meeting.

• Meeting Registration Link: https://us02web.zoom.us/webinar/register/WN_8qtN8bzPS1eApVobqo8poA.

Dial-in phone number: 888-788-0099 (Toll Free), Webinar ID: 853 9161 5696, Passcode: 743444.

SUPPLEMENTARY INFORMATION: The Draft EA analyzes:

• Up to 120 Falcon 9 launches annually at SLC-40, an annual increase of 70 launches from the 50 previously analyzed.

• Construction and operation of a landing zone at Space Launch Complex-40, and

• Up to 34 first-stage booster landings at the new landing zone annually.

The Draft EA also evaluates the potential environmental impacts associated with FAA's approval of related airspace closures.

The FAA will provide a pre-recorded presentation during the first portion of the public meeting. The public will have the opportunity to submit written and oral comments during the meeting. Both English and Spanish versions of the presentation will be made available to the public on April 16, 2025 on the project website: https://www.faa.gov/space/stakeholder_engagement/SpaceX_Falcon_SLC_40_EA.

More information on the Draft EA, Draft FONSI, and virtual public meetings can be found at https://www.faa.gov/space/stakeholder_engagement/SpaceX_Falcon_SLC_40_EA. If any accommodation for the public meeting is needed (such as additional translation services), please submit a request by April 4, 2025, to SpaceXFalconSLC40@icf.com.

Before including your address, phone number, email address, or other personal identifying information in your comment, be advised that your entire comment—including your personal identifying information—may be made publicly available at any time. While you can ask the FAA in your comment to withhold from public review your personal identifying information, the FAA cannot guarantee that it will be able to do so. All comments received during the comment period will be given equal weight and be taken into consideration in the preparation of the Final EA.

Issued in Washington, DC, on March 13, 2025.
Stacey Molinich Zee,
Manager, Operations Support Branch.

[FR Doc. 2025-04488 Filed 3-18-25; 8:45 am]

BILLING CODE 4910-13-P